Title 3—

The President

Proclamation 9473 of August 5, 2016

National Health Center Week, 2016

By the President of the United States of America

A Proclamation

Across America, community health centers offer affordable, high-quality health care to people regardless of their financial status. For more than 50 years, underserved communities and vulnerable populations have relied on the primary and preventive care options these centers provide. During National Health Center Week, we reflect on the important role that health centers have played in delivering the comprehensive care all people deserve.

With a strong focus on community-based and patient-centered care, health centers offer more than just treatment for illnesses and injuries; through an emphasis on education and prevention, they promote wellness and help people lead healthier lives. Anyone seeking care can locate their nearest community health center by using the “Find a Health Center” tool at www.HRSA.gov. Health centers have also played an important part in implementing the Affordable Care Act (ACA). In addition to giving 20 million more Americans the peace of mind of having quality, affordable health insurance, the ACA has enabled health centers to add more than 950 new service delivery sites across our country. Today, nearly 1,400 health centers operate approximately 9,800 service delivery sites and provide care for nearly 23 million patients.

Health centers are an important part of our Nation's health care system, and my Administration remains committed to supporting these facilities and the care they deliver. This year, we invested $94 million to help health centers treat people suffering from substance use disorders—including prescription opioid abuse and heroin use. We have also made new investments to build and renovate health center facilities across our country to help serve more patients and increase availability of oral health services. And because America's health centers are uniquely positioned to address certain public health challenges, we have increased funding to expand critical services in communities that need them most. We have made key investments to help health centers respond to the water crisis in Flint, Michigan, and combat the growing threat from the Zika virus in Puerto Rico, the U.S. Virgin Islands, and American Samoa.

This week, let us thank the dedicated professionals in our community health centers who provide quality care at affordable prices. Let us build on their efforts to improve the well-being of our people and together continue working to bring about a stronger, healthier Nation for all.

NOW, THEREFORE, I, BARACK OBAMA, President of the United States of America, by virtue of the authority vested in me by the Constitution and the laws of the United States, do hereby proclaim the week of August 7 through August 13, 2016, as National Health Center Week. I encourage all Americans to celebrate this week by visiting their local health center, meeting health center providers, and exploring the programs they offer to help keep families healthy.

IN WITNESS WHEREOF, I have hereunto set my hand this fifth day of August, in the year of our Lord two thousand sixteen, and of the Independence of the United States of America the two hundred and forty-first.

[FR Doc. 2016-19199

Filed 8-9-16; 11:15 am]

Billing code 3295-F6-P